ENVIRONMENTAL PROTECTION AGENCY

40 CFR Part 52

[Docket Number: WA-04-001; FRL-7668-6]

Approval and Promulgation of State Implementation Plans: Washington; Central Puget Sound Carbon Monoxide and Ozone Second 10-Year Maintenance Plans

AGENCY: Environmental Protection Agency (EPA).

ACTION: Proposed rule.

SUMMARY: The EPA proposes to approve second 10-year maintenance plans for carbon monoxide (CO) and ozone for the Central Puget Sound area. Specifically, in this action EPA proposes to approve Washington's demonstration that the Central Puget Sound area will maintain air quality standards for CO and ozone through the year 2016; a revised CO motor vehicle emissions budget for transportation conformity purposes using the MOBILE6.2 emissions model and latest growth and planning assumptions; updates and enhancements of state implementation plan (SIP) control measures and contingency measures; and identification of emissions associated with the Seattle-Tacoma International Airport included in the area-wide emissions inventory through the maintenance period.

DATES: Comments must be received on or before July 1, 2004.

ADDRESSES: Submit your comments, identified by Docket ID No. WA-04-001, by one of the following methods:

• Federal eRulemaking Portal: http://www.regulations.gov. Follow the on-line instructions for submitting comments.

• E-mail: R10aircom@epa.gov.

• Fax: (206) 553-0110.

• Mail: Office of Air Quality, Environmental Protection Agency Region 10, Mail code: OAQ-107, 1200 Sixth Ave., Seattle, Washington 98101.

• Hand Delivery: Environmental Protection Agency Region 10, Service Center, 14th Floor, 1200 Sixth Ave., Seattle, Washington 98101. Such deliveries are only accepted during normal hours of operation, and special arrangements should be made for deliveries of boxed information.

Instructions: Direct your comments to Docket ID No. WA-04-001. EPA's policy is that all comments received will be included in the public docket without change, including any personal information provided, unless the comment includes information claimed to be Confidential Business Information (CBI) or other information whose disclosure is restricted by statute. Do not submit information that you consider to be CBI or otherwise protected through regulations.gov, or e-mail. The Federal regulations.gov Web site is an “anonymous access” system, which means EPA will not know your identity or contact information unless you provide it in the body of your comment. If you send an e-mail comment directly to EPA without going through regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: Docket materials are publicly available in hard copy at the Office of Air Quality, Environmental Protection Agency, Mail code: OAQ-107, 1200 Sixth Ave., Seattle, Washington 98101; open from 8 a.m.-4:30 p.m., Monday through Friday, excluding legal holidays. The telephone number is (206) 553-6985.

FOR FURTHER INFORMATION CONTACT: Mahbubul Islam, Office of Air Quality, Region 10, Mail code OAQ-107, Environmental Protection Agency, 1200 Sixth Avenue, Seattle, Washington 98101; telephone number: (206) 553-6985; fax number: (206) 553-0110; e-mail address: islam.mahbubul@epa.gov.

SUPPLEMENTARY INFORMATION:

I. General Information

A. What Should I Consider as I Prepare My Comments for EPA?

1. Submitting Confidential Business Information (CBI). Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing Your Comments. When submitting comments, remember to:

i. Identify the rulemaking by docket number and other identifying information (subject heading, Federal Register date and page number).

ii. Follow directions—The Agency may ask you to respond to specific questions or organize comments by referencing a CFR part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. What Is the Purpose of This Proposed Rulemaking?

The purpose of this proposed rulemaking is to revise the existing CO and ozone maintenance plans for the Central Puget Sound Area in Washington State to take account of new and updated information and to demonstrate continued maintenance of the ambient air quality standards for a second 10-year period through 2016. Portions of the existing first 10-year maintenance plans which are not proposed for revision shall remain unchanged.

The State of Washington presented a trend analysis of the historical CO and ozone monitored data for the Central Puget Sound area demonstrating continued maintenance of the air quality standards with a margin of safety. Implementation of new national and local control measures including tighter standards for motor vehicle tailpipe emissions and cleaner fuel will result in significant improvements of air quality for the next 10-year period. EPA agrees with Washington's analysis and proposes to approve the second 10-year maintenance plan through this rulemaking and notice in the Federal Register.

Federal transportation conformity regulations require that transportation agencies use the latest EPA mobile source emissions model for conformity determinations. EPA officially released a new version of motor vehicle emissions model (MOBILE6) on January 29, 2002. All SIPs that are adopted after that date must use the new model to estimate motor vehicle emissions. The release of MOBILE6 also began a 24-month grace period for conformity. All conformity determinations that are initiated after January 29, 2004 must use MOBILE6 model. The Washington Department of Ecology (Ecology) used MOBILE6.2 to estimate CO emissions for the Central Puget Sound area for the next 10-year maintenance period through 2016 and conducted a technical analysis that showed the new MOBILE6.2 model based regional motor vehicle emissions will not cause or contribute to violations of the air quality standards. EPA agrees with this analysis and proposes to approve a revised motor vehicle emissions budget for conformity determinations.

Previously approved and existing control measures for both CO and ozone remain in place. However, the State of Washington took this rulemaking opportunity to update and enhance several of these emissions control measures. EPA finds these enhancements and updates to the control measures beneficial and proposes to approve them in this rulemaking.

Washington also submitted a comprehensive emissions inventory of the Seattle-Tacoma International Airport operation and construction activities through the 2006-2016 maintenance period for identification and specific inclusion in the SIP. The airport emissions data reflects best estimates, and was calculated based on current emissions estimation tools. EPA proposes to include, identify, and account for the direct and indirect emissions from airport operations and construction of airport improvements in this SIP action.

III. What Is a SIP and How Is It Revised From Time to Time?

The Clean Air Act requires States to attain and maintain ambient air quality equal to or better than standards that provide an adequate margin of safety for public health and welfare. These ambient air quality standards are established by EPA and are known as the National Ambient Air Quality Standards (NAAQS).

The State's plan for attaining and maintaining the NAAQS are outlined in the SIP for that state. The SIP is a planning document that, when implemented, is designed to ensure the achievement of the NAAQS. Each State currently has a SIP in place, and the Act requires that States make SIP revisions periodically as necessary to provide continued compliance with the standards.

SIPs may include, among other things, the following: (1) An inventory of emission sources; (2) statutes and regulations adopted by the State legislature and executive agencies; (3) air quality analyses that include demonstrations that adequate controls are in place to meet the NAAQS; and (4) contingency measures to be undertaken if an area fails to attain the standard or make reasonable progress toward attainment by the required date.

The State must make the SIP available for public review and comment through a public hearing before it is adopted by the State and submitted to EPA by the Governor or his appointed designee. When EPA takes Federal action to approve the SIP submittal, the rules and regulations become federally enforceable.

For an area designated as nonattainment for a criteria pollutant, the State first submits a plan with emissions reduction measures to bring the area into attainment. Once the area has attained the standard based on monitored air quality, the State then submits a redesignation request to attainment and a maintenance plan demonstrating that the area will continue to maintain the standard for at least 10 years after the redesignation into attainment. Near the end of the first 10 years of maintenance effort, the State reviews the adequacy of the existing control measures and future emissions growth forecasts for mobile and other sources, and prepares an updated maintenance plan for a second 10-year period. The second 10-year CO and ozone maintenance plans for Central Puget Sound area of Washington are the subjects of this action.

IV. What Is the Background of Today's Action?

In a March 15, 1991 letter to the EPA Region 10 Administrator, the Governor of Washington recommended the Seattle-Tacoma-Everett area, including the western portions of King, Pierce, and Snohomish Counties, be designated as nonattainment for CO as required by section 107(d)(1)(A) of the 1990 Clean Air Act Amendments (“The Act”). The area, which includes lands within the Puyallup, Tulalip, and Muckleshoot Indian Reservations, was designated by EPA as nonattainment for CO and classified as “moderate” under the provisions outlined in sections 186 and 187 of the Act.

Similarly, under section 107(d)(1) of the Act, and upon considering the recommendation of the Governor of Washington, EPA designated the Central Puget Sound Area as nonattainment for ozone because the area violated the ozone standard during the period from 1989-1991. The Central Puget Sound ozone nonattainment area included lands within Puyallup, Tulalip, Muckleshoot, Stillaguamish, and Nisqually Indian Reservations.

The State of Washington, following the requirements of the Act, prepared and submitted revisions to the Washington SIP that first included an attainment plan, and then developed further plans to demonstrate maintenance of the standards for a 10-year period beyond the statutory attainment date. EPA published the approval of the ozone redesignation request and the first 10-year maintenance plan for ozone in the September 26, 1996, Federal Register. As a result, the Central Puget Sound region was classified as being in attainment of the 1-hour ozone standard effective November 25, 1996. Similarly, EPA published approval of the CO redesignation request from nonattainment to attainment and the maintenance plan for the first 10-year period on October 10, 1996. In both actions, EPA itself redesignated to attainment those portions of the CO and ozone nonattainment areas that are within the boundaries of Indian reservations.

The first 10-year CO and ozone maintenance plans included commitments for periodic review of the plans and submission of the second 10-year maintenance plans to EPA during the last two years of the first 10-year maintenance period. Beginning in 1999, Ecology and the Puget Sound Clean Air Agency undertook a comprehensive air quality planning effort to review and update the CO and ozone maintenance plans. The planning efforts included detailed technical analyses such as preparation of base and future year emissions inventories, regional ozone dispersion modeling, review of control measures for CO and ozone precursors, etc. The Puget Sound Clean Air Agency also employed expert consulting services and convened technical and policy subcommittees to review and guide the planning effort. The results of this planning effort provided the basis of today's proposed approval by EPA.

V. What Is the Status of Current CO and Ozone Levels in the Central Puget Sound Area and How Do They Compare With the Federal Standards?

The national 8-hour CO ambient standard is attained when the daily average 8-hour CO concentration of 9.0 ppm is exceeded no more than one time in a calendar year. Since the redesignation of the Central Puget Sound area to attainment for CO on October 11, 1996, the second highest daily average 8-hour CO concentration in a calendar year measured by the approved monitoring network was 8.4 ppm, which is less than 9.0 ppm. The national 1-hour CO ambient standard is achieved when the daily average 1-hour concentration of 35.5 ppm is exceeded no more than one time in a calendar year. Since redesignation, the second highest daily average 1-hour CO concentration measured in a calendar year was 14.2 ppm, which is less than 35 ppm.

The national 1-hour ozone ambient standard is attained when the expected number of days per calendar year in a three year period with maximum hourly average concentrations above 0.12 parts per million (ppm) is equal to or less than 1 day in that period. Since the redesignation of the Central Puget Sound area to attainment for ozone on November 25, 1996, the expected number of days per calendar year over a consecutive three year period with maximum hourly average ozone concentrations measured above 0.12 ppm is 0.7 day, which was less than 1 day.

VI. How Have the Public and Stakeholders Including Tribal Governments Been Involved in This Rulemaking Process?

In August 2000, the Puget Sound Clean Air Agency convened a broad-based stakeholder group, consisting of representatives from the fuel industry, health, environmental, business, and regulatory communities, to assist the Agency in its CO and ozone maintenance plan update process. Specifically, the stakeholders' group was charged with identifying and recommending the range of actions that might be prudent to include in the updated maintenance plans to achieve emission reductions necessary to maintain healthy levels of air quality and comply with the Federal standards.

Nine public meetings of stakeholders were held from August 2000 through May 2001. In addition, throughout the stakeholder process, briefings were given to Puget Sound Clean Air Agency's Board of Directors at their monthly meetings. After publishing notices in the newspaper for public comments and conducting public hearings, the Puget Sound Clean Air Agency Board approved the CO and ozone maintenance plan updates and adopted the associated contingency measures on December 19, 2002. Ecology adopted these amended regulations into the Washington SIP on December 17, 2003. Similarly, the Puget Sound Clean Air Agency Board approved the updated CO motor vehicle emissions budget using MOBILE6.2 on November 20, 2003, and Ecology adopted it into the Washington SIP on December 17, 2003.

Under the Act, EPA has the responsibility and authority to implement air quality regulations needed to maintain air quality standards within the exterior boundary of Indian country, in the absence of approved tribal programs. EPA has not yet formally approved any Clean Air Act programs for Tribes within the boundary of the Central Puget Sound CO and ozone maintenance area. Therefore, EPA has conducted government-to-government consultations with the Tulalip Tribes of Washington, the Puyallup Tribe of Indians, the Muckleshoot Indian Tribe, the Stillaguamish Tribe, and the Nisqually Indian Tribe, who are affected by this action. The EPA's consultations with Tribes included official letters from EPA Region 10 Office of Air Quality Director to Tribal Chairs, and staff consultations between EPA and Tribal staff in the form of electronic communication and telephone discussion.

VII. What Are the Sources and Magnitude of CO and Ozone Precursors Emitted in the Central Puget Sound Maintenance Area?

Ecology and Puget Sound Clean Air Agency developed a base case emissions inventory for the year 1996 and then projected inventories for the years 2007, and 2015. The emissions inventory is a list, by source, of the air contaminants directly emitted into the Region's air. The data in the emissions inventory is based on calculations and is developed using emission factors, which is a method for converting source activity levels into an estimate of emissions contributions for those sources. The CO is directly emitted by sources, but the ozone is formed in the atmosphere. VOC and NOX, generally known as ozone precursors, are directly emitted by sources that react in the atmosphere under sunlight to form ozone.

VOC emissions were estimated at 1,051 tons per day on a peak 1996-summer episode day. This included contributions from biogenic sources (577 tons per day, 55%), on-road mobile sources (186 tons per day, 18%), non-road mobile sources (153 tpd, 15%), stationary area sources (116 tpd, 11%) and point sources (20 tpd, 2%). VOC emissions in 2015 were estimated at 949 tons per day.

Table 1.—Central Puget Sound Maintenance Area Summer Day VOC Emissions (tons) by Source Category
Source Category | 1996 | 2007 | 2015
Biogenic | 577 | 577 | 577
On-road Mobile | 186 | 148 | 109
Non-road Mobile | 153 | 132 | 111
Stationary area | 116 | 124 | 132
Point | 20 | 20 | 20
Total | 1,051 | 1,001 | 949

NOX emissions were estimated at 506 tons per day on a peak 1996-summer episode day. This included contributions from biogenic sources (9 tpd, 2%), on-road mobile sources (346 tpd, 68%), non-road mobile sources (135 tpd, 27%), stationary area sources (9 tpd, 2%) and point sources (7 tpd, 1%). NOX emissions in 2015 were estimated at 291 tons per day.

Table 2.—Central Puget Sound Maintenance Area Summer Day NOX Emissions (tons) by Source Category
Source category | 1996 | 2007 | 2015
Biogenic | 9 | 9 | 9
On-road Mobile | 346 | 251 | 156
Non-road Mobile | 135 | 123 | 111
Stationary area | 9 | 9 | 9
Point | 7 | 7 | 7
Total | 506 | 399 | 291

CO emissions were estimated at 3,322 tons on a typical 1996 winter day. This included contributions from on-road mobile sources ( 2,694 tpd 81%), non-road mobile sources (202 tpd, 6%), stationary area sources (360 tpd, 11%) and point sources (66 tpd, 2%). CO emissions in 2015 were estimated at 2,092 tons per winter day. The emissions inventory predicts substantial future reductions in CO emissions, largely as a result of a decrease in on-road emissions, which are expected to continue to decline as older motor vehicles are replaced by newer vehicles that meet Federal Tier II emission standards and operate on low sulfur fuels.

Table 3.—Central Puget Sound Maintenance Area Winter Day NOX Emissions (tons) by Source Category
Source category | 1996 | 2007 | 2015
On-road mobile | 2,694 | 2,037 | 1,380
Non-road Mobile | 202 | 229 | 229
Stationary area | 360 | 417 | 417
Point | 66 | 66 | 66
Total | 3,322 | 2,749 | 2,092

It was also demonstrated that emissions of CO and ozone precursors for 2016, the last year of the second 10-year maintenance plans, will be less than or equal to the emissions projected for 2015.

VIII. How Does the State Demonstrate Maintenance of the CO and Ozone Standards for the Second 10-Year Period?

The State used a numerical photochemical grid model to demonstrate maintenance of the ozone standard for the second 10-year maintenance period. The basis for the modeling was a regional air quality modeling system developed over the past several years by Washington State University and Ecology. This system includes the use of a mesoscale meteorological model (MM5), a diagnostic wind model (CALMET), and a photochemical dispersion model (CALGRID). The modeling system was employed to simulate an ozone episode that occurred during July 11-14, 1996, with monitored ozone level reaching and exceeding the one-hour standard at multiple sites. The model performance for this base episode was within EPA guidelines for acceptable photochemical ozone modeling. The maximum monitored ozone concentration during the episode was 118 ppb at the Enumclaw monitoring site southeast of Seattle and the model predicted maximum concentration at this site was 106 ppb. Once the model performance was verified, the 1996 base case emission inventory was projected into the future for maintenance years and then these projected emission inventories were used with the 1996 meteorological conditions to simulate the impact of emission changes in the future. The simulation showed that emissions in 2007 would produce approximately 2 ppb improvement from the 1996 level and in 2015 the change in emissions would decrease peak ozone concentration by about 7 ppb. It appeared from these simulations that reduction in emissions over time due to the implementation of new Federal motor vehicle and fuel standards will produce adequate reduction in maximum ozone formation during the maintenance period and keep the area in attainment with some margin of safety. Therefore, the modeling demonstrated continued compliance with the ozone standard for a second 10-year maintenance period with existing control measures and future federally implemented measures.

The current, EPA-approved first 10-year CO maintenance plan used a probabilistic rollback approach to evaluate different control measure scenarios and to demonstrate maintenance of the CO standard with a reasonable margin of safety. A review and update of this methodology using more recent monitored air quality and projected emissions data was conducted to demonstrate continued maintenance of the CO standard for a second 10-year period. The probabilistic rollback approach demonstrated regional, long-term maintenance by evaluating maintenance at the two permanent monitoring sites (Pacific Ave, Tacoma and NE. 45th Street, Seattle) using the maximum observed concentrations for 1999-2002. The probabilistic analysis showed that the CO standard was maintained on both sites in 2002 with at least 99% probability and will be maintained for a second 10-year period with the same level of assurance.

IX. What Control Measures Are Considered for the Contingency Plans, in Case of the Monitored Exceedance or Violation of the Federal Standard?

The maintenance plans are to contain contingency control measures to ensure that the State will promptly correct any violation of the standard that occurs after the area is redesignated from nonattainment to attainment. The ozone contingency measures in the second 10-year maintenance plan for the Central Puget Sound Area include a regulatory program requiring enhanced storage tank vapor recovery systems at gasoline stations. If needed due to a quality-assured violation of the ambient ozone standard, this measure would take effect the following May 1, after releasing a public notice. Also, an open burning ban would be in effect during the months of July and August. The existing ozone contingency measure of a mandatory reduction in gasoline volatility would remain in place.

The CO contingency measures were designed based on a tiered approach. The first tier contingency measures would be triggered upon a quality assured exceedance of the CO standard at a single monitoring site throughout the Central Puget Sound region. If that occurs, local and State government entities will investigate traffic conditions where the exceedance occurred and evaluate the effectiveness of local mitigation measures. If local transportation system improvements at the “hot spot” could be implemented promptly, and would help prevent future exceedances, the most effective measure would be implemented. The second tier contingency measure would be triggered if there were violations of the CO standard at multiple monitoring sites throughout the Central Puget Sound region. This measure would consist of implementation of a region-wide ethanol-based oxygenated gas requirement as prescribed in the Puget Sound Clean Air Agency's Regulation.

X. How Does This Action Affect Transportation Conformity?

Under section 176(c) of the Act, transportation plans, programs, and projects in nonattainment or maintenance areas that are funded or approved under the Federal Transit Act, must conform to the applicable SIPs. In short, a transportation plan is deemed to conform to the applicable SIP if the emissions resulting from implementation of that transportation plan are less than or equal to the motor vehicle emission level established in the SIP for the maintenance year and other analysis years.

In this maintenance plan, procedures for estimating motor vehicle emissions are well documented. The regional motor vehicle emissions calculated by MOBILE6.2 were used in the probabilistic rollback method to compute a threshold level of regional emissions inventory that would provide maintenance of the CO standard with 99% certainty and confidence through the second 10-year maintenance period. The computed attainment threshold of regional motor vehicle emissions can be used to assess the long term attainment prospects. The total on-road motor vehicle CO emissions in the Central Puget Sound area are expected to remain below 2,510 tons per winter day from the present through calendar year 2016 in order to maintain the CO ambient standard. Accordingly, the new CO motor vehicle emissions budget are set at a fixed limit of 2,510 tons per day, not to be exceeded in any given year through 2016.

Table 4.—Central Puget Sound Maintenance Area CO Motor Vehicle Emissions Budget
CO Motor Vehicles Emissions Budget | 2,510 tons per winter day.

This action does not affect or change the motor vehicle emission budget for ozone precursors, VOC and NOX, already established in the first 10-year maintenance plan. For convenience of the readers, we have listed below the motor vehicle emissions budgets for VOC an NOX.

Table 5.—Central Puget Sound Maintenance Area VOC Motor Vehicle Emissions Budget
VOC Motor Vehicles Emissions Budget | 248.2 tons per summer day.

Table 6.—Central Puget Sound Maintenance Area NOX Motor Vehicle Emissions Budget
Years | NOX motor vehicles emissions budget
2005 | 269.84 tons per summer day.
2007 | 267.61 tons per summer day.
2010 | 263.01 tons per summer day.
2016 | 263.01 tons per summer day.

The motor vehicle emissions budget for all years after the second 10-year maintenance period may use the same level for the last year of the maintenance plan (40 CFR 93.118 (b)(2)(ii)), unless changed by a subsequent maintenance plan revision.

XI. Why Is EPA Proposing To Specifically Identify Airport Emissions in the SIP?

EPA's general conformity guidance for airports encourages airport operators to develop comprehensive emissions inventories for their facilities as well as estimates of future activities and associated emissions and then work with local and State air quality agencies to ensure that the corresponding SIP accurately reflects and accounts for all emissions at the airport and growth rates for operations at the airport. The operator of the Seattle-Tacoma International Airport prepared a comprehensive emissions inventory from its regular operation, maintenance, and construction activities throughout the span of the second 10-year maintenance plans and the State included these emissions in total regional emissions used to demonstrate continued maintenance of the CO and ozone air quality standards. The proposed SIP approval does not alter regional non-road emissions totals, but rather clarifies the portion of non-road emissions that are related to airport.

Table 7.—Seattle-Tacoma International Airport Emissions Inventory (tons/day)
Year | 1996 | 1996 | 1996 | 2015 | 2015 | 2015
Pollutant | VOC | NOX | CO | VOC | NOX | CO
Airport construction | 0 | 0 | 0 | 0.5 | 2.3 | 4.5
Aircraft and ground support equipment | 3.8 | 8.8 | 6 | 2.3 | 11.1 | 42

XII. In Conclusion, How Would This EPA Approval Affect the General Public and Citizens of the Central Puget Sound Area?

This action proposes to approve measures adopted by Ecology to ensure maintenance of the Federal air quality standards for CO and ozone in the Central Puget Sound area for a second 10-year period and protect the health and welfare of the area citizens from adverse effects of degraded air quality levels. Such assurance of healthy air quality level is predicted because the second 10-year maintenance plans include enhanced control measures and clearer contingency measures.

XIII. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely proposes to approve a State rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Carbon monoxide, Intergovernmental relations, Ozone, Reporting and recordkeeping requirements.

Dated: May 24, 2004.
Ronald A. Kreizenbeck,
Acting Regional Administrator, Region 10.

[FR Doc. 04-12302 Filed 5-28-04; 8:45 am]

BILLING CODE 6560-50-P